DEPARTMENT OF HEALTH AND HUMAN SERVICES

National Institutes of Health

Center for Scientific Review; Amended Notice of Meeting

Notice is hereby given of a change in the meeting of the Center for Scientific Review Special Emphasis Panel, April 30, 2009, 9 a.m. to May 1, 2009, 5 p.m., National Institutes of Health, 6701 Rockledge Drive, Bethesda, MD 20892, which was published in the Federal Register on April 10, 2009, 74 FR 16407-16408.

The meeting will be held May 12, 2009 to May 13, 2009. The meeting time and location remain the same. The meeting is closed to the public.

Dated: April 16, 2009.
Jennifer Spaeth,
Director, Office of Federal Advisory Committee Policy.

[FR Doc. E9-9253 Filed 4-23-09; 8:45 am]

BILLING CODE 4140-01-M